FEDERAL MINE SAFETY AND HEALTH REVIEW COMMISSION

Sunshine Act Meetings

Time and Date: 10 a.m., Wednesday, June 27, 2001.

Place: Room 6005, 6th Floor, 1730 K Street, NW., Washington, DC.

Status: Open.

Matters to be Considered: The Commission will consider and act upon the following:

1. Secretary of Labor on behalf of McGill v. U.S. Steel Mining, Docket No. SE 2000-39-DM (Issues include whether the judge erred in finding that the operator established an affirmative defense to the miner's prima facie case of discrimination).

Time and Date: 2 p.m., Wednesday, June 27, 2001.

Place: Room 6005, 6th Floor, 1730 K Street, NW., Washington, DC.

Status: Open.

Matters to be Considered: The Commission will consider and act upon the following:

1. Proposed Settlement Judge Rule (Notice of proposed rulemaking was published at 64 Fed. Reg. 61236 (Nov. 10, 1999)).

Any person attending an open meeting who requires special accessibility features and/or auxiliary aids, such as sign language interpreters, must inform the Commission in advance of those needs. Subject to 29 CFR 2706.150(a)(3) and § 2706.160(d).

Contact Person for More Info: Jean Ellen, (202) 653-5629/(202) 708-9300 for TDD Relay/1-800-877-8339 for toll free.

Jean H. Ellen,
Chief Docket Clerk.

[FR Doc. 01-16099 Filed 6-22-01; 11:50 am]

BILLING CODE 6735-01-M